COMMITTEE FOR THE IMPLEMENTATION OF TEXTILE AGREEMENTS

Consolidation and Amendment of Export Visa Requirements To Include the Electronic Visa Information System for Certain Cotton, Wool, Man-Made Fiber, Silk Blend and Other Vegetable Fiber Textiles and Textile Products Produced or Manufactured in Cambodia

December 20, 2000.

AGENCY: Committee for the Implementation of Textile Agreements (CITA).

ACTION: Issuing a directive to the Commissioner of Customs consolidating and amending visa requirements.

EFFECTIVE DATE: January 1, 2001.

FOR FURTHER INFORMATION CONTACT: Roy Unger, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

In exchange of notes dated December 20, 2000, the Governments of the United States and Cambodia agreed to amend the existing visa arrangement for cotton, wool and man-made fiber textile products in Categories 200-239, 300-369, 400-469, 600-670, 800-899, produced or manufactured in Cambodia and exported on and after January 1, 2001. The amended arrangement consolidates existing provisions and new provisions for the Electronic Visa Information System (ELVIS). The Governments of the United States and Cambodia will implement a 6-month test phase in which, in addition to the ELVIS requirements, shipments will continue to be accompanied by a visa. This notice supersedes the notice and letter to the Commissioner of Customs published in the Federal Register on December 18, 1998 (63 FR 70110).

A description of the textile and apparel categories in terms of Categories with the Harmonized Tariff Schedule of the United States (see Federal Register notice 64 FR 71982, published on December 22, 1999). Information regarding the 2001 CORRELATION will be published in the Federal Register at a later date.

Interested persons are advised to take all necessary steps to ensure that textile products entered into the United States for consumption, or withdrawn from warehouse for consumption, will meet the visa requirements set forth in the letter published below to the Commissioner of Customs.

Richard B. Steinkamp,
Chairman, Committee for the Implementation of Textile Agreements.

Committee for the Implementation of Textile Agreements

December 20, 2000.

Commissioner of Customs,

Department of the Treasury, Washington, DC 20229.

Dear Commissioner: This directive supersedes the directive issued to you on December 14, 1998 by the Chairman, Committee for the Implementation of Textile Agreements. Under the terms of section 204 of the Agricultural Act of 1956, as amended (7 U.S.C. 1854); and pursuant to the Export Visa Arrangement, effected by exchange of notes dated December 20, 2000, between the Governments of the United States and Cambodia; and in accordance with the provisions of Executive Order 11651 of March 3, 1972, as amended, you are directed to prohibit, effective on January 1, 2001, entry into the customs territory of the United States (i.e., the 50 states, the District of Columbia and the Commonwealth of Puerto Rico) for consumption and withdrawal from warehouse for consumption of cotton, wool, man-made fiber, silk blend and other vegetable fiber textiles and textile products in Categories 200-239, 300-369, 400-469, 600-670, 800-899, including part categories and merged categories, produced or manufactured in Cambodia and exported on and after January 1, 2001 for which the Government of Cambodia has not issued an appropriate export visa and Electronic Visa Information System (ELVIS) transmission fully described below. Should additional categories, part-categories or merged categories become subject to import quotas, the entire category(s), part-category(s) or merged category(s) shall be included in the coverage of this arrangement.

A visa must accompany each shipment of the aforementioned textile products. A circular stamped marking in blue ink will appear on the front of the original invoice. The original visa shall not be stamped on duplicate copies of the invoice. The original invoice with the original visa stamp will be required to enter the shipment into the United States. Duplicates of the invoice and/or visa may not be used for this purpose.

Visa Requirements

Each visa stamp shall include the following information:

1. The visa number. The visa number shall be in the standard nine digit letter format, beginning with one numeric digit for the last digit of the year of export, followed by the two character alpha code specified by the International Organization for Standardization (ISO) (the code for Cambodia is “KH”), and a six digit serial number identifying the shipment; e.g., 1KH123456.

2. The date of issuance. The date of issuance shall be the day, month and year on which the visa was issued.

3. The printed name and original signature of the issuing official authorized by the Government of Cambodia.

4. The correct category(s), part category(s), merged category(s), quantity(s) and unit(s) of quantity in the shipment in the unit(s) of quantity provided for in the U.S. Department of Commerce Correlation, and in the Harmonized Tariff Schedule of the United States, Annotated or successor documents and listed in Annex B to this Arrangement shall be reported in the spaces provided within the visa stamp (e.g., “Cat. 340-510 DOZ”).

Quantities must be stated in whole numbers. Decimals or fractions will not be accepted. Merged category quota merchandise may be accompanied by either the appropriate merged category visa or the correct category visa corresponding to the actual shipment. (For example, quota Category 340/640 may be visaed as “Category 340/640” or if the shipment consists solely of Category 340 merchandise, the shipment may be visaed as “Category 340,” but not as “Category 640”). If, however, a merged quota category such as 340/640 has a quota sublimit on Category 340, then there must be a “Category 340“ visa for the shipment if it includes Category 340 merchandise.

U.S. Customs shall not permit entry if the shipment does not have a visa, or if the visa number, date of issuance, printed name of the signer, signature, category, quantity or units of quantity are missing, incorrect, illegible, or have been crossed out or altered in any way. If the quantity indicated on the visa is less than that of the shipment, entry shall not be permitted. If the quantity indicated on the visa is more than that of the shipment, entry shall be permitted and only the amount entered shall be charged to any applicable quota.

The complete name and address of a company performing the major production steps in the manufacturing process of the textile products covered by the visa shall be provided on the textile visa document.

The categories, quantities and date of export shall be those determined by the U.S. Customs Service and those listed in Annex B of this Arrangement. The U.S. Customs Service classifies all imports into the Customs territory of the United States in compliance with U.S. laws and regulations.

If the visa is not acceptable then a new correct visa must be obtained from the Government of Cambodia or a visa waiver may be issued by the U.S. Department of Commerce at the request of the Cambodian Embassy for the Government of Cambodia and presented to the U.S. Customs Service before any portion of the shipment will be released. The waiver, if used, only waives the requirement to present a visa with the shipment. It does not waive any quota requirement. Visa waivers will only be issued for classification purposes or for one-time special purpose shipments that are not part of an ongoing commercial enterprise.

If the visaed invoice is deficient, the U.S. Customs Service will not return the original document after entry, but will provide the importer with a certified copy of that visaed invoice for use in obtaining a new correct visaed invoice or a visa waiver.

Only the actual quantity in the shipment and the correct category will be charged to the applicable restraint level.

If a shipment from Cambodia has been allowed entry into the commerce of the United States with either an incorrect visa or no visa and redelivery is requested but is not made, the shipment will be charged to the correct category limit whether or not a replacement visa or visa waiver is provided.

The Government of the United States will make available to the Government of Cambodia, upon request, information on the amounts and categories involved for all items subject to quota administered by the U.S. Customs Service.

ELVIS Requirements

A. Each ELVIS message will include the following information:

i. The visa number as defined above.

ii. The date of issuance. The date of issuance shall be the day, month and year on which the visa was issued.

iii. The correct category(s), part category(s), merged category(s), quantity(s) and unit(s) of quantity of the shipment in the unit(s) of quantity provided for in the U.S. Department of Commerce Correlation and in the Harmonized Tariff Schedule of the United States, Annotated or successor documents and listed in Annex B to this Arrangement.

iv. The quantity of the shipment in the correct units of quantity

v. The manufacturer ID number (MID). The MID shall begin with “KH” followed by the first three characters from each of the first two words of the name of the manufacturer, followed by the largest number on the address line up to the first four digits, followed by three letters from the city name.

B. Entry of a shipment shall not be permitted:

i. if an ELVIS transmission has not been received for the shipment from Cambodia;

ii. if the ELVIS transmission for that shipment is missing any of the following:

a. visa number

b. category or part category

c. quantity

d. unit of measure

e. date of issuance

f. manufacturer ID number;

iii. if the ELVIS transmission for the shipment does not match the information supplied by the importer with regard to any of the following:

a. visa number

b. category or part category

c. unit of measure;

iv. if the quantity being entered is greater than the quantity transmitted;

v. if the visa number has previously been used, except in the case of a split shipment, or canceled, except when an entry has already been made using the visa number.

C. A new, correct ELVIS transmission from Cambodia is required before a shipment that has been denied entry for one of the circumstances described above will be released.

D. Notwithstanding the previous paragraph, a visa waiver may be accepted, at the discretion of the U.S. Department of Commerce, in lieu of an ELVIS transmission, if the shipment qualifies as a one-time special purpose shipment that is not part of an ongoing commercial enterprise.

E. Shipments will not be released for forty-eight hours in the event of a system failure. If system failure exceeds forty-eight hours, for the remaining period of the system failure, the U.S. Customs Service will release shipments on the basis of the paper visaed document.

F. If a shipment from Cambodia is allowed entry into the commerce of the United States with an incorrect visa, no visa, an incorrect ELVIS transmission, or no ELVIS transmission, and redelivery is requested but is not made, the shipment will be charged to the correct category limit whether or not a replacement visa or waiver is provided or a new ELVIS message is transmitted.

G. The U.S. Customs will provide the Government of Cambodia with a report on visa utilization which is accessible at any time. This report will contain:

a. visa number

b. category number

c. unit of measure

d. quantity charged to quota

e. entry number

f. entry line number

Other Provisions

The date of export is the actual date the merchandise finally leaves the country of origin. For merchandise exported by carrier, this is the day on which the carrier last departs the country of origin.

Merchandise imported for the personal use of the importer and not for resale, regardless of value, and properly marked commercial sample shipments valued $800 or less do not require a visa or an ELVIS transmission for entry and shall not be charged to Agreement levels, if applicable.

The Government of Cambodia shall provide the Government of the United States with three original, clear, reproducible copies of the visa stamp which shall be the stamp designated for use throughout the entire period the visa arrangements in effect, and three originals of the signatures of the officials authorized to sign visas. The stamp, and any subsequent changes thereto, must be approved by the Government of the United States. The Government of Cambodia shall notify the Government of the United States at least forty-five days prior to a change in the officials authorized to sign the visa.

Except as provided for above, any shipment which is not accompanied by a valid and correct visa and ELVIS transmission shall be denied entry by the Government of the United States unless the Government of Cambodia authorizes the entry and any charges to the agreement levels.

After a six-month test phase is completed, both governments will conduct a joint assessment and make recommendations regarding the elimination of the visa stamp on the commercial invoice within 60 days unless either side presents objections.

Either Government may terminate, in whole or in part, this administrative arrangement by giving ninety days written notice to the other.

The Committee for the Implementation of Textile Agreements has determined that this action falls within the foreign affairs exception to the rulemaking provisions of 5 U.S.C. 553(a)(1).

Sincerely,
Richard B. Steinkamp,
Chairman, Committee for the Implementation of Textile Agreements.

[FR Doc. 00-32989 Filed 12-26-00; 8:45 am]

BILLING CODE 3510-DR-F